SUSQUEHANNA RIVER BASIN COMMISSION

Public Hearing

AGENCY: Susquehanna River Basin Commission.

ACTION: Notice.

SUMMARY: The Susquehanna River Basin Commission will hold a public hearing on February 7, 2019, in Harrisburg, Pennsylvania. At this public hearing, the Commission will hear testimony on the projects listed in the SUPPLEMENTARY INFORMATION section of this notice. Such projects are intended to be scheduled for Commission action at its next business meeting, tentatively scheduled for March 15, 2019, which will be noticed separately. The public should take note that this public hearing will be the only opportunity to offer oral comment to the Commission for the listed projects. The deadline for the submission of written comments is February 18, 2019.

DATES: The public hearing will convene on February 7, 2018, at 2:30 p.m. The public hearing will end at 5:00 p.m. or at the conclusion of public testimony, whichever is sooner. The deadline for the submission of written comments is February 18, 2018.

ADDRESSES: The public hearing will be conducted at the Pennsylvania State Capitol, Room 8E-B, East Wing, Commonwealth Avenue, Harrisburg, Pa.

FOR FURTHER INFORMATION CONTACT: Ava Stoops, Administrative Specialist, telephone: (717) 238-0423; fax: (717) 238-2436.

Information concerning the applications for these projects is available at the Commission's Water Application and Approval Viewer at https://mdw.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor and Facility: ADLIB Resources, Inc. (Meshoppen Creek), Springville Township, Susquehanna County, Pa. Application for renewal of surface water withdrawal of up to 0.499 mgd (peak day) (Docket No. 20150301).

2. Project Sponsor: Aqua Pennsylvania, Inc. Project Facility: Beech Mountain System, Butler Township, Luzerne County, Pa. Application for groundwater withdrawal of up to 0.144 mgd (30-day average) from Beech Mountain Well 1.

3. Project Sponsor: Aqua Pennsylvania, Inc. Project Facility: Beech Mountain System, Butler Township, Luzerne County, Pa. Application for groundwater withdrawal of up to 0.144 mgd (30-day average) from Beech Mountain Well 2.

4. Project Sponsor: Aqua Pennsylvania, Inc. Project Facility: Beech Mountain System, Butler Township, Luzerne County, Pa. Application for groundwater withdrawal of up to 0.124 mgd (30-day average) from Beech Mountain Well 3.

5. Project Sponsor and Facility: Chesapeake Appalachia, L.L.C. (Susquehanna River), Braintrim Township, Wyoming County, Pa. Application for renewal of surface water withdrawal of up to 3.000 mgd (peak day) (Docket No. 20150303).

6. Project Sponsor: Corning Incorporated. Project Facility: Corning Innovation Support Center, Town of Big Flats, Chemung County, N.Y. Application for groundwater withdrawal of up to 0.540 mgd (30-day average) from Carpenter Road Well 1.

7. Project Sponsor: Corning Incorporated. Project Facility: Corning Innovation Support Center, Town of Big Flats, Chemung County, N.Y. Application for groundwater withdrawal of up to 0.540 mgd (30-day average) from Carpenter Road Well 2.

8. Project Sponsor and Facility: Farmers Pride, Inc., Bethel Township, Lebanon County, Pa. Application for renewal of groundwater withdrawal of up to 0.060 mgd (30-day average) from Well 1 (Docket No. 19881101).

9. Project Sponsor and Facility: Linde Corporation (Lackawanna River), Fell Township, Lackawanna County, Pa. Application for renewal of surface water withdrawal of up to 0.905 mgd (peak day) (Docket No. 20150307).

10. Project Sponsor and Facility: Shadow Ranch Resort, Inc. (Tunkhannock Creek), Tunkhannock Township, Wyoming County, Pa. Application for renewal of surface water withdrawal of up to 0.999 mgd (peak day) (Docket No. 20150309).

11. Project Sponsor and Facility: State College Borough Water Authority, Ferguson Township, Centre County, Pa. Application for renewal of groundwater withdrawal of up to 0.490 mgd (30-day average) from Well 57 (Docket No. 19890504).

12. Project Sponsor: SUEZ Water Pennsylvania Inc. Project Facility: Center Square Operation, Upper Allen Township, Cumberland County, Pa. Application for groundwater withdrawal of up to 0.107 mgd (30-day average) from Well 1.

13. Project Sponsor: SUEZ Water Pennsylvania Inc. Project Facility: Center Square Operation, Upper Allen Township, Cumberland County, Pa. Application for renewal of groundwater withdrawal of up to 0.379 mgd (30-day average) from Well 2 (Docket No. 19861104).

14. Project Sponsor and Facility: Sugar Hollow Water Services LLC (Martins Creek), Hop Bottom Borough, Susquehanna County, Pa. Application for renewal of surface water withdrawal of up to 0.360 mgd (peak day) (Docket No. 20150304).

15. Project Sponsor and Facility: SWEPI LP (Cowanesque River), Westfield Township, Tioga County, Pa. Application for renewal of surface water withdrawal of up to 0.375 mgd (peak day) (Docket No. 20150311).

16. Project Sponsor and Facility: SWN Production Company, LLC (Martins Creek), Brooklyn Township, Susquehanna County, Pa. Application for renewal of surface water withdrawal of up to 0.997 mgd (peak day) (Docket No. 20150310).

17. Project Sponsor and Facility: Village of Windsor, Broome County, N.Y. Application for groundwater withdrawal of up to 0.380 mgd (30-day average) from Well 1.

18. Project Sponsor and Facility: Village of Windsor, Broome County, N.Y. Application for groundwater withdrawal of up to 0.380 mgd (30-day average) from Well 2.

Commission-Initiated Project Approval Modifications

1. Project Sponsor and Facility: East Donegal Township Municipal Authority, East Donegal Township, Lancaster County, Pa. Conforming the grandfathering amount with the forthcoming determination for a withdrawal of up to 0.351 mgd (30-day average) from Glatfelter Springs (Docket No. 20110305).

2. Project Sponsor and Facility: Hanover Country Club, Abbottstown Borough, Adams County, Pa. Conforming the grandfathering amount with the forthcoming determination for a groundwater withdrawal of up to 0.122 mgd (30-day average) from Well 1 and up to 0.108 mgd (30-day average) from Well 2 (Docket No. 20020828).

3. Project Sponsor and Facility: Mars Wrigley Confectionary US, LLC, Elizabethtown Borough, Lancaster County, Pa. Conforming the grandfathering amount with the forthcoming determination for groundwater withdrawal of up to 0.112 mgd (30-day average) from Well 6 (Docket No. 20010804).

Opportunity To Appear and Comment

Interested parties may appear at the hearing to offer comments to the Commission on any business listed above required to be subject of a public hearing. The presiding officer reserves the right to limit oral statements in the interest of time and to otherwise control the course of the hearing. Guidelines for the public hearing are posted on the Commission's website, www.srbc.net, prior to the hearing for review. The presiding officer reserves the right to modify or supplement such guidelines at the hearing. Written comments on any business listed above required to be subject of a public hearing may also be mailed to Ms. Ava Stoops, Administrative Specialist, Susquehanna River Basin Commission, 4423 North Front Street, Harrisburg, Pa. 17110-1788, or submitted electronically through www.srbc.net/about/meetings-events/public-hearing.html. Comments mailed or electronically submitted must be received by the Commission on or before February 18, 2019, to be considered.

Authority: Pub. L. 91-575, 84 Stat. 1509 et seq., 18 CFR parts 806, 807, and 808.

Dated: February 1, 2019.
Jason E. Oyler,
Acting Secretary to the Commission.

[FR Doc. 2019-01246 Filed 2-5-19; 8:45 am]

BILLING CODE 7040-01-P